DEPARTMENT OF LABOR

Employment and Training Administration

[TA-W-59,715]

Salisbury Manufacturing Corporation, Mohican Mills, Salisbury, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 21, 2006, applicable to workers of Salisbury Manufacturing Corporation located in Salisbury, North Carolina. The notice was published in the Federal Register on September 13, 2006 (71 FR 54094-54096).

At the request of a company official, the Department reviewed the certification for workers of the subject firm. The workers produce airline blankets. The company informed the Department that some of the workers wages were reported to the Unemployment Insurance (UI) tax account for a sister company, Mohican Mills.

The intent of the certification is to provide coverage to all workers of the subject firm impacted by increased imports. Accordingly, the Department is amending the certification to include workers of Salisbury Manufacturing Corporation, Salisbury, North Carolina, whose wages are reported by Mohican Mills.

The amended notice applicable to TA-W-59,715 is hereby issued as follows:

“All workers of Salisbury Manufacturing Corporation, Mohican Mills, Salisbury, North Carolina, who became totally or partially separated from employment on or after June 28, 2005 through August 21, 2008, are eligible to apply for adjustment assistance under Section 223 of the Trade Act of 1974, and are also eligible to apply for alternative trade adjustment assistance under section 246 of the Trade Act of 1974.”

Signed in Washington, DC, this 10th day of October, 2006.
Linda G. Poole,
Certifying Officer, Division of Trade Adjustment Assistance.

[FR Doc. E6-18227 Filed 10-30-06; 8:45 am]

BILLING CODE 4510-30-P